NUCLEAR REGULATORY COMMISSION

[Docket No. 50-400-LR, ASLBP No. 07-855-02-LR-BD01]

Atomic Safety and Licensing Board

Before Administrative Judges: Ann Marshall Young, Chair, Dr. Peter S. Lam, Dr. Alice Mignerey.

In the Matter of Carolina Power & Light Company (Shearon Harris Nuclear Power Plant, Unit 1); Notice (Notice of Opportunity to Make Oral or Written Limited Appearance Statements)

June 26, 2007.

This proceeding involves the application of Carolina Power & Light Company to renew the operating license for the Shearon Harris Nuclear Power Plant, Unit 1, for an additional twenty-year period commencing in 2026. In response to a March 20, 2007, notice of opportunity for hearing on the proposed license renewal (72 Fed. Reg. 13,139), Petitioners North Carolina Waste Awareness and Reduction Network and the Nuclear Information and Resource Service filed, on May 18, 2007, a request for hearing and petition to intervene in accordance with 10 CFR 2.309. On May 25, 2007, the Secretary of the Commission referred the hearing request and intervention petition to the Chief Administrative Judge of the Atomic Safety and Licensing Board Panel for appropriate action in accordance with 10 CFR 2.346(i), and on May 31 this Licensing Board was established to preside over the proceeding.

This Atomic Safety and Licensing Board hereby gives notice that, in accordance with 10 CFR 2.315(a), the Board will entertain oral limited appearance statements from members of the public in connection with this proceeding at the date, time, and location specified below.

A. Date, Time, and Location of Oral Limited Appearance Statement Session

The session will be held on the following date at the specified location and time:

Date: July 17, 2007.

Time: 5:30-7:30 p.m. EDT.

Location: Holiday Inn Brownstone Hotel & Conference Center, Sessions Room, 1707 Hillsborough Street, Raleigh, NC 27605.

B. Participation Guidelines for Oral Limited Appearance Statements

Members of the public will be permitted in this session to make short oral statements of approximately five (5) minutes or less on their positions on matters of concern relating to this proceeding. Although these statements do not constitute testimony or evidence in the proceeding, they nonetheless may assist the Board and/or the parties in their consideration of the issues.

Oral limited appearance statements will be entertained during the hours specified above, or such lesser time as necessary to accommodate all speakers who are present.¹ If all scheduled and unscheduled speakers present at the session have spoken prior to the scheduled time to end the session, the Board may conclude the session before that time. In addition, if there is an unusually large group of persons wishing to speak, the time permitted for each speaker may be limited to a period of less than five (5) minutes, in order to allow all interested persons an opportunity to speak.

¹ Members of the public who plan to attend the limited appearance session are advised that security measures may be employed at the entrance to the facility, including searches of hand-carried items such as briefcases, backpacks, packages, etc. In addition, although signs no larger than 18″ by 18″ will be permitted, they may not be waved, attached to sticks, held up, or moved about in the room. See Procedures for Providing Security Support for NRC Public Meetings/Hearings, 66 Fed. Reg. 31,719 (June 12, 2001).

C. Submitting a Request to Make an Oral Limited Appearance Statement

Persons wishing to make an oral statement who have submitted a timely written request as specified below and who are present when their names are called will be given priority over those who have not filed such a request. To be considered timely, a written request to make an oral statement must be mailed, faxed, or sent by e-mail so as to be received by 5 p.m. EDT on Friday, July 13, 2007.

Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement must be sent to the Chair of this Licensing Board as follows:

Mail: Administrative Judge Ann Marshall Young, c/o: Debra Wolf, Esq., Law Clerk, Atomic Safety and Licensing Board Panel, Mail Stop T-3 F23, U.S. Nuclear Regulatory Commission, Washington, DC 20555-0001.

Fax: (301) 415-5599 (verification (301) 415-6094).

E-mail: daw1@nrc.gov.

D. Submitted Written Limited Appearance Statements

A written limited appearance statement may be submitted to the Board regarding this proceeding at any time, either in lieu of or in addition to any oral statement. Such statements should be sent to the Office of the Secretary using the methods prescribed above, with a copy to the Licensing Board Chair.

E. Availability of Documentary Information Regarding the Proceeding

Documents relating to this proceeding are available for public inspection at the Commission's Public Document Room (PDR), located at One White Flint North, 11555 Rockville Pike (first floor), Rockville, Maryland, or electronically from either the Electronic Hearing Docket or the publicly available records component of the NRC's document system (ADAMS). Both ADAMS and the Electronic Hearing Docket are accessible from the NRC Web site at http://www.nrc.gov/reading-rm.html (Electronic Reading Room). Persons who do not have access to ADAMS or the Electronic Hearing Docket, or who encounter problems in accessing the documents located on the NRC Web site, should contact the NRC PDR reference staff by telephone at (800) 397-4209 or (301) 415-4737, or by e-mail to pdr@nrc.gov.

F. Scheduling Information Updates

To the extent updated or revised scheduling information exists regarding the limited appearance session, it can be found on the NRC Web site at www.nrc.gov/public-involve/public-meetings/index.cfm or by calling (800) 368-5642, extension 5036, or (301) 415-5036.

For the Atomic Safety and Licensing Board.
Rockville, Maryland
Dated: June 26, 2007 ².
Ann Marshall Young,
Chair, Administrative Judge.

² Copies of this Notice were sent this date by Internet e-mail to counsel for: (1) Petitioners; (2) Carolina Power & Light Company; and (3) the NRC Staff.

[FR Doc. 07-3224 Filed 7-2-07; 8:45 am]

BILLING CODE 7590-01-P